NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995 on the National Science Foundation Proposal and Award Policies and Procedures Guide. NSF may not conduct or sponsor a collection of information unless the collection of information displays a currently valid OMB control number and the agency informs potential persons who are to respond to the collection of information that such persons are not required to respond to the collection of information unless it displays a currently valid OMB control number.

Comments: Comments are invited on: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

DATES: Comments regarding these information collections are best assured of having their full effect if received October 2, 2017.

ADDRESSES: Comments should be addressed to: Office of Information and Regulatory Affairs of OMB, Attention: Desk Officer for National Science Foundation, 725 17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

FOR FURTHER INFORMATION CONTACT: Suzanne H. Plimpton at splimpto@nsf.gov. Copies of the submission(s) may be obtained by calling 703-292-7556.

SUPPLEMENTARY INFORMATION: This is the second notice for public comment on plans to obtain OMB clearance for the Survey of Public Attitudes Toward and Understanding of Science and Technology (S&T Attitudes Survey); the first notice was published in the Federal Register at 82 FR 15240, and no comments were received. NSF is forwarding the proposed renewal submission to the Office of Management and Budget (OMB) for clearance simultaneously with the publication of this second notice. The full submission may be found at: http://www.reginfo.gov/public/do/PRAMain.

Title of Collection: Survey of Public Attitudes Toward and Understanding of Science and Technology.

OMB Approval Number: 3145-NEW.

Summary of Collection: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. The Survey of Public Attitudes Toward and Understanding of Science and Technology (“S&T Attitudes Survey”) is part of this NCSES system, focused on public support for, understanding of, and attitudes toward science and technology. The S&T Attitudes Survey is conducted as one module of the General Social Survey (GSS), one of the three large, high quality social surveys funded under a grant by the National Science Foundation.

Use of the Information and Means of Dissemination: The S&T Attitudes Survey was established to gather high-quality data on public attitudes toward and understanding of science for the NCSES biennial publication, Science and Engineering Indicators (SEI). SEI is a congressionally mandated report on the status of the science and engineering enterprise in the United States, including comparisons with other countries. The “Science and Technology: Public Attitudes and Understanding” chapter of the report is dedicated to public understanding of and attitudes toward science and technology. These attitudes and understandings may influence students' decisions to pursue STEM careers, public support for funding scientific research, what technologies are adopted and how, and what public policies are put in place. It is expected that the information in Chapter 7 will be used by policymakers, journalists, government agencies, researchers, and the general public.

NSF will publish statistics from the survey in NCSES' SEI report and possibly in InfoBriefs that focus on particular research topics. SEI, Infobriefs, and data tables and figures will be made available electronically on the NSF Web site. Public use data files will also be developed and made freely available via the Internet.

Expected Respondents: GSS respondents are a probability sample of all noninstitutionalized English and Spanish speaking persons 18 years of age or older, living in the United States. The expected number of participants is 1,250.

Estimate of Burden: In the 2014 GSS data collection cycle, respondents took an average of 20 minutes to respond to the S&T Attitudes Survey module. This is not expected to change. In addition, while the target number of participants is 1,250, this can vary depending on the systematic assignment of GSS respondents to the S&T Attitudes Survey and patterns of non-response. No more than 1,313 participants are expected for the 2018 GSS. Thus, the total number of person-hours expected for the 2018 GSS is at most (20/60) * 1,313 or 438 hours.

Updates: Relative to the first Federal Register notice, there is one substantive change. The first notice described an older methodology. The current methodology is as follows. The sample is a multi-stage area probability sample. The geographical units employed are national frame areas (NFAs) which are comprised of Metropolitan Statistical Areas (MSAs) and non-metropolitan counties. The sample is selected using the United States Postal Service postal delivery sequence file (DSF) and, where the DSF has poor coverage (90% or less), field listing. The 17 largest MSAs are included with certainty, while other NFAs are sampled with probability proportionate to size (PPS) and with implicit stratification by geographic and demographic characteristics. Within all selected NFAs, tracts or block groups are further selected with PPS and implicit stratification by additional geographic and demographic characteristics. The tertiary sampling units, addresses, are a random sample from the DSF or, alternatively, a field inventory of addresses. When a housing unit is visited by a field interviewer, one person is selected to be interviewed from the housing unit at random. Not all GSS respondents are given the S&T Attitudes survey, which is a module on the GSS. Which GSS respondents get the S&T Attitudes module is determined by systematic sampling conducted to ensure that each NFA and segment (tract or block group) in the sample has an equal number of S&T Attitudes surveys.

Dated: August 28, 2017.
Suzanne H. Plimpton,
Reports Clearance Officer, National Science Foundation.

[FR Doc. 2017-18472 Filed 8-30-17; 8:45 am]

BILLING CODE 7555-01-P